DEPARTMENT OF HOMELAND SECURITY

U.S. Citizenship and Immigration Services

[CIS No. 2510-11; DHS Docket No. USCIS 2007-0028]

RIN 1615-ZB06

Extension of the Designation of El Salvador for Temporary Protected Status and Automatic Extension of Employment Authorization Documentation for Salvadoran TPS Beneficiaries; Correction

AGENCY: U.S. Citizenship and Immigration Services (USCIS), DHS.

ACTION: Notice; correction.

SUMMARY: The Department of Homeland Security (DHS) corrects the notice published in the Federal Register on January 11, 2012, at 77 FR 1710. We are correcting the dates for the re-registration period to state that the period runs from January 9, 2012 through March 12, 2012.

DATES: The 18-month extension of the TPS designation of El Salvador is effective March 10, 2012 and will remain in effect through September 9, 2013. The 60-day re-registration period begins January 9, 2012 and will remain in effect through March 12, 2012.

FOR FURTHER INFORMATION CONTACT: • For further information on TPS, including guidance on the application process and additional information on eligibility, please visit the TPS Web page at www.uscis.gov/tps. You can find specific information about this extension and about TPS for El Salvador by selecting “TPS Designated Country—El Salvador” from the menu on the left of the TPS Web page.

• You can also contact the TPS Operations Program Manager at Status and Family Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquiries.

• Applicants seeking information about the status of their individual cases can check Case Status Online available at the USCIS Web site at http://www.uscis.gov, or call the USCIS National Customer Service Center at 1-(800) 375-5283 (TTY 1-(800) 767-1833).

• Further information will also be available at local USCIS offices upon publication of this Notice.

SUPPLEMENTARY INFORMATION:

Need for Correction

On January 11, 2012, DHS published a notice in the Federal Register at 77 FR 1710, extending the designation of El Salvador for TPS and setting forth procedures for nationals of El Salvador (or aliens having no nationality who last habitually resided in El Salvador) with TPS to re-register and to apply for their new or renewed Employment Authorization Documents (EADs) (Forms I-766) with USCIS. The notice incorrectly stated the 60-day re-registration period would run from January 9, 2012 through March 9, 2012.

DHS is issuing this correction notice to extend the re-registration period through Monday, March 12, 2012. DHS will retain the January 9, 2012 start date for the re-registration period to avoid confusion. DHS will accept re-registration applications submitted from January 9, 2012 through March 12, 2012, provided they meet all filing and fee requirements as stated in the January 11, 2012 notice.

Specifically, DHS replaces the March 9, 2012 date with a new date, March 12, 2012, in the January 11, 2012 notice, within the section titled “DATES,” where the March 9, 2012 date appears in the second sentence relating to the re-registration period.

Christina E. McDonald,
Associate General Counsel for Regulatory Affairs, Department of Homeland Security.

[FR Doc. 2012-1169 Filed 1-19-12; 8:45 am]

BILLING CODE 9111-97-P